DEPARTMENT OF ENERGY

Federal Energy Regulatory Commission

Combined Notice of Filings #2

Take notice that the Commission received the following electric rate filings:

Docket Numbers: ER13-625-001.

Applicants: Public Service Company of Colorado.

Description: 2013-03-15-NSP-CDTT-Tran-to Load-545 to be effective 1/1/2013.

Filed Date: 3/18/13.

Accession Number: 20130318-5002.

Comments Due: 5 p.m. ET 4/8/13.

Docket Numbers: ER13-797-001.

Applicants: EBRFUEL, LLC.

Description: Ebrfuel LLC, FERC Electric Tariff to be effective 4/1/2013.

Filed Date: 3/18/13.

Accession Number: 20130318-5054.

Comments Due: 5 p.m. ET 4/8/13.

Docket Numbers: ER13-1113-002.

Applicants: PJM Interconnection, L.L.C.

Description: Ministerial revision to OATT Sch 7 replacing No. “6” in footnote-Eff 6/1/2011 to be effective 6/1/2011.

Filed Date: 3/18/13.

Accession Number: 20130318-5000.

Comments Due: 5 p.m. ET 4/8/13.

Docket Numbers: ER13-1113-003.

Applicants: PJM Interconnection, L.L.C.

Description: Ministerial revision to OATT Sch 7 replacing No. “6” in footnote-Eff 1/1/2012 to be effective 1/1/2012.

Filed Date: 3/18/13.

Accession Number: 20130318-5001.

Comments Due: 5 p.m. ET 4/8/13.

Docket Numbers: ER13-1117-000.

Applicants: Oklahoma Gas and Electric Company.

Description: Service Agreement 41 to be effective 5/31/2013.

Filed Date: 3/18/13.

Accession Number: 20130318-5075.

Comments Due: 5 p.m. ET 4/8/13.

Docket Numbers: ER13-1118-000.

Applicants: Oklahoma Gas and Electric Company.

Description: Rate Schedule No. 106 to be effective 5/31/2013.

Filed Date: 3/18/13.

Accession Number: 20130318-5080.

Comments Due: 5 p.m. ET 4/8/13.

Docket Numbers: ER13-1119-000.

Applicants: Louisville Gas & Electric Company.

Description: Notice of Termination of Interconnection and Operating Agreement of Louisville Gas and Electric Company.

Filed Date: 3/18/13.

Accession Number: 20130318-5085.

Comments Due: 5 p.m. ET 4/8/13.

Take notice that the Commission received the following qualifying facility filings:

Docket Numbers: QF13-357-000.

Applicants: BC Jaclen Tower LP.

Description: Form 556—Notice of self-certification of qualifying cogeneration facility status of BC Jaclen Tower LP.

Filed Date: 3/14/13.

Accession Number: 20130314-5186.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2013.
Nathaniel J. Davis, Sr.,
Deputy Secretary.

[FR Doc. 2013-06707 Filed 3-22-13; 8:45 am]

BILLING CODE 6717-01-P